DEPARTMENT OF COMMERCE

National Oceanic and Atmospheric Administration

50 CFR Part 229

[Docket No. 080103017-8598-03]

RIN 0648-AS01

Taking of Marine Mammals Incidental to Commercial Fishing Operations; Atlantic Large Whale Take Reduction Plan Regulations

AGENCY: National Marine Fisheries Service (NMFS), National Oceanic and Atmospheric Administration (NOAA), Commerce.

ACTION: Final rule; notice of OMB approval of collection -of-information collection requirements.

SUMMARY: NMFS announces approval by the Office of Management and Budget (OMB) of collection-of-information requirements contained in regulations implementing amendments to the Atlantic Large Whale Take Reduction Plan.

DATES: The information collection requirements associated with the final rule published on October 5, 2007 are effective May 1, 2008.

FOR FURTHER INFORMATION CONTACT: Diane Borggaard, NMFS, Northeast Region, 978-281-9300 Ext. 6503, diane.borggaard@noaa.gov; Kristy Long, NMFS, Office of Protected Resources, 301-713-2322, kristy.long@noaa.gov; or Barb Zoodsma, NMFS, Southeast Region, 904-321-2806, barb.zoodsma@noaa.gov.

SUPPLEMENTARY INFORMATION:

Electronic Access

This Federal Register document is also accessible at the web site of the Office of the Federal Register: http://www.gpoaccess.gov/fr/index.html.

Background

On October 5, 2007, NMFS published a final rule implementing the Atlantic Large Whale Take Reduction Plan (ALWTRP) (72 FR 57104). That final rule contained collection-of-information requirements that were submitted to, but not yet approved by, the Office of Management and Budget. Because OMB had not yet approved the collection-of-information requirements by the publication date of that final rule, NMFS noted in that final rule that it would publish a subsequent Federal Register notice upon OMB's issuance of a control number.

On December 7, 2007, OMB approved the collection-of-information requirements contained in the October 5, 2007 final rule. NMFS announces that the collection-of-information requirements are approved under Control Number 0648-0364, with an expiration date of February 28, 2009.

Dated: April 25, 2008.
Samuel D. Rauch III,
Deputy Assistant Administrator for Regulatory Programs, National Marine Fisheries Service.

[FR Doc. 08-1202 Filed 4-28-08; 4:00 pm]

BILLING CODE 3510-22-S